DEPARTMENT OF AGRICULTURE

Food and Nutrition Service

Agency Information Collection Activities: Proposed Collection; Comment Request—Information Collection for the Summer Food Service Program

AGENCY: Food and Nutrition Service, USDA.

ACTION: Notice.

SUMMARY: In accordance with the Paperwork Reduction Act of 1995, this notice invites the general public and other public agencies to comment on a proposed information collection for the Summer Food Service Program (SFSP). Pursuant to Section 13 of the Richard B. Russell National School Lunch Act (NSLA), the SFSP provides assistance to States to initiate and maintain nonprofit food service programs for needy children during the summer months and at other approved times. Subsection (m) of the statute directs States and service institutions participating in the SFSP to keep accounts and records necessary to enable the Secretary to determine whether there has been compliance with this section and the SFSP regulations. This information collection concerns the efforts required of States and service institutions to comply with the Secretary's requests for information. This proposed collection is a revision of the currently approved collection for the SFSP.

DATES: Written comments must be submitted by September 22, 2009.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical or other technological collection techniques or other forms of information technology. Comments maybe sent to: Mrs. Lynn Rodgers-Kuperman, Chief, Program Analysis and Monitoring Branch, Child Nutrition Division, Food and Nutrition Service (FNS), U.S. Department of Agriculture, 3101 Park Center Drive, Room 638, Alexandria, Virginia 22302. Comments will also be accepted through the Federal eRulemaking Portal. Go to http://www.regulations.gov, and follow the online instructions for submitting comments electronically.

All written comment(s) will be open for public inspection at the office of the Food and Nutrition Service during regular business hours (8:30 a.m. to 5 p.m., Monday through Friday) at 3101 Park Center Drive, Room 640, Alexandria, Virginia 22302.

All responses to this notice will be summarized and included in the request for OMB approval, and will become a matter of public record.

FOR FURTHER INFORMATION CONTACT: Mrs. Lynn Rodgers-Kuperman at (703) 305-2590.

SUPPLEMENTARY INFORMATION: Title: Summer Food Service Program.

OMB Number: 0584-0280.

Expiration Date: January 31, 2010.

Type of Request: Revision of a currently approved collection.

Abstract: Section 13 of the NSLA, as amended, 42 U.S.C. 1761, authorizes the Summer Food Service Program to provide assistance to States to initiate and maintain nonprofit food service programs for needy children during the summer months and at other approved times. The purpose of this submission to OMB is to obtain approval to continue the discussed information collection. States and service institutions participating in the SFSP will submit to FNS account and record information reflecting their efforts to comply with statutory and regulatory Program requirements.

Respondents: The respondents are state agencies and not-for-profit institutions.

Estimated Number of Respondents: 53 State agencies, 3,842 sponsors, and 32,697 camps.

Estimated Total Annual Responses: 20.

Estimated Hours per Response: 1.

Estimated Annual Burden Hours: 731,840.

Dated: July 16, 2009.
Julia Paradis,
Administrator, Food and Nutrition Service.

[FR Doc. E9-17719 Filed 7-23-09; 8:45 am]

BILLING CODE 3410-30-P